DEPARTMENT OF VETERANS AFFAIRS

Privacy Act of 1974

AGENCY: Department of Veterans Affairs.

ACTION: Notice of amendment to system of records.

SUMMARY: As required by the Privacy Act of 1974 (5 U.S.C. 552(e)(4)), notice is hereby given that the Department of Veterans Affairs (VA) is amending the system of records currently entitled, “Department of Veterans Affairs Federal Docket Management System (VAFDMS)—(140VA00REG)” as set forth in the Federal Register on February 9, 2007. VA is amending the system by revising the routine uses of records maintained in the system, including categories of users and the purpose of such uses. VA is republishing the system notice in its entirety.

DATES: Comments on the amendment of this system of records must be received no later than April 24, 2008. If no public comment is received, the new system will become effective April 24, 2008.

ADDRESSES: Written comments may be submitted through http://www.Regulations.gov; by mail or hand-delivery to the Director, Regulations Management (00REG), Department of Veterans Affairs, 810 Vermont Avenue, NW., Room 1068, Washington, DC, 20420; or by fax to (202) 273-9026. Comments should indicate that they are submitted in response to the amendment of “Department of Veterans Affairs Federal Docket Management System (VAFDMS)—(140VA00REG).” Copies of comments received will be available for public inspection in the Office of Regulation Policy and Management, Room 1063B, between the hours of 8 a.m. and 4:30 p.m., Monday through Friday (except holidays). Please call (202) 461-4902 for an appointment. In addition, during the comment period, comments may be viewed online through the Federal Docket Management System at http://www.Regulations.gov.

FOR FURTHER INFORMATION CONTACT: William F. Russo, Privacy Officer, or Janet Coleman, Office of Regulation Policy and Management (00REG), Department of Veterans Affairs, 810 Vermont Avenue, NW., Washington, DC 20420, (202) 461-4902.

SUPPLEMENTARY INFORMATION: A Notice of Establishment of New System of Records was published in the Federal Register on February 9, 2007 (72 FR 6315).

I. Description of the System of Records

The Department of Veterans Affairs Federal Docket Management System (VAFDMS) permits the Department of Veterans Affairs (VA) to identify individuals, who have submitted comments in response to VA rulemaking documents or notices so that communications or other actions, as appropriate and necessary, can be effected, such as to seek clarification of the comment, to directly respond to a comment, and for other activities associated with the rulemaking or notice process. Identification is possible only if the individual voluntarily provides identifying information when submitting a comment. If such information is not furnished, the submitted comments and/or supporting documentation cannot be linked to an individual.

VAFDMS permits members of the public to search the public comments received by name of the individual submitting the comment. Unless the individual submits the comment anonymously, a name search will result in the comment being displayed for view. Comments may be searched by other means whether submitted anonymously or by an identified individual. If the comment is submitted electronically using VAFDMS, the viewed comment will not include the name of the submitter or any other identifying information about the individual except that, which the submitter has opted to include as part of his or her general comments. If a comment is submitted by an individual on his or her own behalf, in writing, that has been scanned and uploaded into VAFDMS, unless the individual submits the comment anonymously, the submitter's name will be on the comment, but other personally identifying information will be redacted before it is scanned and uploaded. Comments submitted on behalf of organizations in writing that have to be scanned and uploaded into VAFDMS, will not be redacted.

II. Proposed Amendments to Routine Use Disclosures of Data in the System

VA is rewriting existing routine uses in the System using plain language. The use of plain language in these routine uses does not, and is not intended to, change the disclosures authorized under these routine uses. VA is amending, deleting, rewriting and reorganizing the order of the routine uses in this system of records, as well as adding new routine uses. Accordingly, the following changes are made to the current routine uses and are incorporated into the amended system of records notice:

Current routine use number 1 is being renumbered as routine use number 4, and is amended to more accurately reflect VA's authorization to disclose individually-identifiable information to contractors or other entities that will provide services to VA for which the recipient needs that information in order to perform the services.

VA is not amending current routine use number 2, but VA is renumbering it as routine use number 8.

VA is renumbering current routine use number 3 as routine use number 5, and amending it, with minor word changes, to more accurately reflect the conditions under which VA, on its own initiative, may disclose information from this system of records for law enforcement purposes.

Current routine use number 4 is being renumbered as new routine use number 3, and is being amended, with minor word changes, to more clearly state when VA may disclose information in legal proceedings, and when VA may disclose information to the Department of Justice. In determining whether to disclose records under this routine use, VA will comply with the guidance promulgated by the Office of Management and Budget (OMB) in a May 24, 1985, memorandum entitled “Privacy Act Guidance—Update” currently posted at http://frwebgate.access.gpo.gov/cgi-bin/leaving.cgi?from=leavingFR.html&log=linklog&to=http://www.whitehouse.gov/omb/inforeg/guidance1985.pdf.

VA is adding new routine use number 1 authorizing when VA may disclose the record of an individual to a Member of Congress, or a staff person acting for the Member.

New routine use number 2 is being added to authorize disclosure to the National Archives and Records Administration in records management inspections conducted under authority of Title 44 U.S.C.

VA is adding new routine use number 6 authorizing when VA may disclose to other Federal agencies in assisting such agencies in preventing and detecting possible fraud or abuse by individuals in their operations and programs.

Finally, VA is adding new routine use number 7 that authorizes the circumstances, and to whom, VA may disclose records in order to respond to, and minimize possible harm to, individuals as a result of a data breach. This routine use is promulgated in order to meet VA's statutory duties under 38 U.S.C. 5724 and The Privacy Act, 5 U.S.C. 552a, as amended.

III. Compatibility of the Proposed Routine Uses

Release of information from these records, pursuant to routine uses, will be made only in accordance with the provisions of the Privacy Act of 1974. The Privacy Act of 1974 permits agencies to disclose information about individuals, without their consent, for a routine use when the information will be used for a purpose that is compatible with the purpose for which the information was collected. VA has determined that the disclosure of information for the above purposes in the proposed amended to routine uses is a proper and necessary use of the information collected by the VAFDMS system, and is compatible with the purpose for which VA collected the information.

The notice of intent to publish an advance copy of the system notice has been sent to the appropriate Congressional Committees and to the Director of the Office of Management and Budget (OMB), as required by 5 U.S.C. 552a(r) (Privacy Act), as amended, and guidelines issued by OMB (65 FR 77677), December 12, 2000.

Approved: March 11, 2008.
Gordon H. Mansfield,
Deputy Secretary of Veterans Affairs.

140VA00REG

System Name:

Department of Veterans Affairs Federal Docket Management System (VAFDMS)

System Location:

Primary location: Electronic records are kept at the U.S. Environmental Protection Agency, Research Triangle Park, NC 27711-0001. Secondary location: Paper records are kept at Department of Veterans Affairs, 810 Vermont Avenue, NW., Washington, DC 20420.

Categories of Individuals Covered By the System:

Individuals who voluntarily provide personal contact information when submitting a public comment and/or supporting materials in response to a Department of Veterans Affairs rulemaking document or notice.

Categories of Records In the System:

Full name, postal address, e-mail address, phone and fax numbers of the individual submitting comments, the name of the organization or individual that the individual represents (if any), and the comments, as well as other supporting documentation, furnished by the individual. Comments may include personal information about the commenter.

Authority for Maintenance of the System:

44 U.S.C. 3501, Note; Pub. L. 107-347, sec. 206(d); Note; 5 U.S.C. 301, and 553.

Purpose:

To permit the Department of Veterans Affairs (VA) to identify individuals, who have submitted comments in response to VA rulemaking documents or notices, so that communications or other actions, as appropriate and necessary, can be effected, such as to seek clarification of the comment, to directly respond to a comment, and for other activities associated with the rulemaking or notice process.

Routine Uses of Records Maintained In the System, Including Categories of Users and the Purposes of Such Uses:

1. The record of an individual who is covered by a system of records may be disclosed to a Member of Congress, or a staff person acting for the Member, when the Member or staff person requests the record on behalf of and at the written request of the individual.

2. Disclosure may be made to the National Archives and Records Administration in records management inspections conducted under authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information, and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

8. VA may disclose information contained in this System of Records, as necessary, to comply with the requirements of the Administrative Procedure Act (APA) that comments are available for public review if submitted in response to VA's solicitation of public comments as part of the Agency's notice and rulemaking activities under the APA. However, VA will not release individually-identifiable personal information, such as an individual's address or home telephone number, under this routine-use, except where VA determines that publication without redaction was intended by the submitter.

Policies and Practices for Storing, Retrieving, Accessing, Retaining, and Disposing of Records In the System:

(a) Storage:

Records are maintained on electronic storage media and paper.

(b) Retrievability:

Records are retrieved by various data elements and key word searches, among which are by: Name, Agency, Docket Type, Docket Sub-Type, Agency Docket ID, Docket Title, Docket Category, Document Type, CFR Part, Date Comment Received, and Federal Register Published Date.

(c) Safeguards:

Electronic records are maintained in a secure, password protected, electronic system that utilizes security hardware and software to include: Multiple firewalls, active intruder detection, and role-based access controls. Paper records are maintained in a controlled facility, where physical entry is restricted by the use of locks, guards, and/or administrative procedures. Access to records is limited to those officials who require the records to perform their official duties consistent with the purpose for which the information was collected. All personnel whose official duties require access to the information are trained in the proper safeguarding and use of the information.

(d) Retention and Disposal:

Records will be maintained and disposed of, in accordance with records disposition authority, approved by the Archivist of the United States.

System Manager(s) and Addresses:

William F. Russo, Privacy Officer, Office of Regulation Policy and Management (00REG), Department of Veterans Affairs, 810 Vermont Ave., NW., Washington, DC 20420; telephone (202) 461-4902.

Notification Procedures:

Individuals seeking to determine whether this System of Records contains information about themselves should address written inquiries to the Office of Regulation Policy and Management (00REG), Department of Veterans Affairs, 810 Vermont Ave., NW., Washington, DC 20420. Requests should contain the full name, address and telephone number of the individual making the inquiry.

Record Access Procedure:

Individuals seeking to access or contest the contents of records, about themselves, contained in this System of Records should address a written request, including full name, address and telephone number to the Office of Regulation Policy and Management (00REG), Department of Veterans Affairs, 810 Vermont Ave., NW., Washington, DC 20420.

Contesting Record Procedure:

(See Record Access Procedure above.)

Record Source Categories:

Individual.

Exemptions Claimed for the System:

There are no exemptions being claimed for this system.

[FR Doc. E8-6041 Filed 3-24-08; 8:45 am]

BILLING CODE 8320-01-P